DEPARTMENT OF COMMERCE

Census Bureau

Proposed Information Collection; Submission to the Office of Management and Budget (OMB) for Review and Approval; Comment Request; 2023 New York City Housing and Vacancy Survey

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision to the currently approved collection of the 2023 New York City Housing and Vacancy Survey, prior to the submission of the information collection request (ICR) to OMB for approval.

DATES: To ensure consideration, comments regarding this proposed information collection must be received on or before February 14, 2022.

ADDRESSES: Interested persons are invited to submit written comments by email to Tamara.A.Cole@census.gov. Please reference 2023 New York City Housing and Vacancy Survey in the subject line of your comments. You may also submit comments, identified by Docket Number USBC-2021-0023, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Tamara Cole, Survey Director, phone 301-763-4665, email Tamara.A.Cole@census.gov.

SUPPLEMENTARY INFORMATION:

I. Abstract

The New York City Housing and Vacancy Survey (NYCHVS) is sponsored by the New York City Department of Housing Preservation and Development and is conducted approximately every three years. The Census Bureau has conducted the survey for the City since 1962. The primary purpose of the survey is to measure the net rental vacancy rate as it is used to determine the continuation of current rent regulation laws in New York City. NYCHVS survey data are also used by policymakers, advocates, and researchers to inform policy and analyze housing costs and conditions in the City.

Detailed data from the survey cover many characteristics of the City's housing market, including characteristics of the City's population, households, housing stock, and neighborhoods. Data collected about each person in the household include housing costs and burden, income and employment, and key demographics, including membership in protected classes. On the household level, the NYCHVS collects data including total housing costs and income, public assistance, and residential history. Data on the City's housing stock include building and unit quality and condition, rent regulatory and homeownership status, and unit size and accessibility.

II. Method of Collection

The NYCHVS is collected by personal visit or telephone interview. All interviews are conducted via a Computer-Assisted Personal Interview (CAPI) instrument.

III. Data

OMB Control Number: 0607-0757.

Form Number(s): H-100(L).

Type of Review: Regular submission, Request for a Revision to a Currently Approved Collection.

Affected Public: Households and rental offices/realtors (for vacant units).

Estimated Number of Respondents: 15,500.

Estimated Time per Response: 40 minutes.

Estimated Total Annual Burden Hours: 9,907.

Estimated Total Annual Cost to Public: $0 (This is not the cost of respondents' time, but the indirect costs respondents may incur for such things as purchases of specialized software or hardware needed to report, or expenditures for accounting or records maintenance services required specifically by the collection.).

Respondent's Obligation: Voluntary.

Legal Authority: 13 U.S.C. 8b, and the Local Emergency Housing Rent Control Act, Laws of New York (Chapters 8603 and 657).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-27082 Filed 12-14-21; 8:45 am]

BILLING CODE 3510-07-P